DEPARTMENT OF TRANSPORTATION

Federal Railroad Administration

[Docket Number FRA-2020-0059]

Petition for Waiver of Compliance

Under part 211 of title 49 Code of Federal Regulations (CFR), this document provides the public notice that on August 11, 2021, the Association of American Railroads (AAR) petitioned the Federal Railroad Administration (FRA) for an extension of an existing waiver of compliance from certain provisions of the Federal railroad safety regulations contained at 49 CFR parts 213, 214, 217, 218, 220, 228, 232, 236, 240, 242, and 243. The relevant Docket Number is FRA-2020-0059.

AAR, on behalf of itself and its member railroads, requests to extend certain temporary, conditional relief FRA previously granted by letter dated September 18, 2020, related to the coronavirus disease 2019 (COVID-19) public health emergency. See https://www.regulations.gov/document/FRA-2020-0059-0004.

In support of its petition, AAR notes that the FRA Administrator's March 13, 2020, Declaration of Emergency Situation related to COVID-19 remains in effect. AAR also references statements from the U.S. Centers for Disease Control and Prevention (CDC) related to the B.1.617.2 (“Delta”) variant of COVID-19. Specifically, AAR notes that the CDC has reported data showing increased COVID-19 positive tests and hospitalizations. AAR further notes that some railroads have recently begun reporting an increase in the number of positive COVID-19 employee tests and asserts that “the continuation of certain waivers is essential to the Railroads' ability to continue to protect their workforce and their critical mission.”

AAR requests that FRA extend the existing relief previously granted in FRA's September 18, 2020, letter with the exception of the relief related to the operational testing requirements of 49 CFR 217.9 and related sections.

AAR requests that FRA extend the existing relief for another 12 months, or three months after the FRA Administrator's rescission of the existing COVID-19 Emergency Declaration, whichever is sooner.

A copy of the petition, as well as any written communications concerning the petition, is available for review online at www.regulations.gov (Docket Number FRA-2020-0059).

Interested parties are invited to participate in these proceedings by submitting written views, data, or comments. If any interested parties desire an opportunity for oral comment and a public hearing, they should notify FRA, in writing, before the end of the comment period and specify the basis for their request.

All communications concerning these proceedings should identify the appropriate docket number and may be submitted at http://www.regulations.gov. Follow the online instructions for submitting comments.

Communications received by September 9, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2021-18241 Filed 8-24-21; 8:45 am]

BILLING CODE 4910-06-P